DEPARTMENT OF COMMERCE

Foreign-Trade Zones Board

Foreign-Trade Zone 86—Tacoma, WA; Site Renumbering Notice

Foreign-Trade Zone 86 was approved by the Foreign-Trade Zones Board on July 20, 1983 (Board Order 216), expanded on April 3, 1985 (Board Order 292), November 3, 1989 (Board Order 446), and November 2, 2000 (Board Order 1131).

FTZ 86 currently consists of 12 “Sites” totaling 2,266 acres in the Tacoma, Washington area. The current update does not alter the physical boundaries that have previously been approved, but instead involves an administrative renumbering of the existing sites to separate unrelated, non-contiguous sites for record-keeping purposes.

Under this revision, the site list for FTZ 86 will be as follows: Site 1 (621 acres)—Port of Tacoma Complex, Tacoma; Site 2 (137 acres)—Valley South Corporate Park, 142nd Avenue East, Sumner; Site 3 (226 acres)—Port of Tacoma parcels, Frederickson, 19315 38th Avenue East and 4630 192nd Street East, Frederickson; Site 4 (23 Acres)—Fife Business Park, Pacific Highway East, Fife; Site 5 (170 acres)—Lakewood Industrial Park, 4700 100th Street Southwest, Lakewood; Site 6 (76 acres)—Sumner Corporate Park, 1800 140th Avenue East, Sumner; Site 7 (423 acres)—Cascadia Development Corp. Industrial Park, State Road 410, South Prairie; Site 10 (123 acres)—Greenwater Corporate Park, East Valley Highway, Sumner; Site 11 (185 acres)—Boeing Frederickson parcel, 18001 Canyon Road East, Frederickson; Site 12 (160 acres)—J.R. & F. Randles parcel, 19209 Canyon Road East, Frederickson; Site 13 (33 acres)—Rainier Corporate Park East, 70th Avenue East, Fife; and, Site 14 (89 acres)—Trans-Pacific Industrial Park, 20th Street East, Fife.

For further information, contact Christopher Kemp at Christopher.Kemp@trade.gov or (202) 482-0862.

Dated: September 30, 2010.
Andrew McGilvray,
Executive Secretary.

[FR Doc. 2010-26064 Filed 10-14-10; 8:45 am]

BILLING CODE P